DEPARTMENT OF AGRICULTURE

Submission for OMB Review; Comment Request

September 30, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology, should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Fruit and Vegetable Market News Reports

OMB Control Number: 0581-0006

Summary of Collection: Section 203(g) of the Agricultural Marketing Act of 1946 (7 U.S.C. 1621) directs and authorizes the collection of information and disseminating of marketing information including adequate outlook information on a market-area basis for the purpose of anticipating and meeting consumer requirements, aiding in the maintenance of farm income and bringing about balance between production and utilization of agriculture products. Market News provides all interested segments of the market chain with market information which tends to equalize the competitive position of all market participants. The fruit and vegetable industries, through their organizations, or government agencies, present formal requests that the Department of Agriculture issue daily, weekly, semi-monthly, or monthly market news reports on various aspects of the industry.

Need and Use of the Information: AMS will collect information for the production of Market News reports that are then available to the industry and other interested parties in various formats. Information is provided on a voluntary basis and collected in person through face-to-face interviews and by confidential telephone throughout the country by market reporters.

Description of Respondents: Farms; Business or other for-profit.

Number of Respondents: 4,013.

Frequency of Responses: Reporting: Daily; Weekly; Monthly.

Total Burden Hours: 56,861.

Agricultural Marketing Service

Title: Poultry Market News Report.

OMB Control Number: 0581-0033.

Summary of Collection: The Agricultural Marketing Act of 1946, legislates that USDA shall “collect and disseminate marketing information * * *” and “* * * collect, tabulate, and disseminate statistics on marketing agricultural products, including, but not restricted to statistics on marketing supplies, storage, stocks, quantity, quality, and condition of such products in various positions in the marketing channel, use of such products, and shipments and unloads thereof.” The mission of Market New is to provide current unbiased, factual information to all members of the Nation's agricultural industry, from farm to retailer.

Need and Use of the Information: Information is used by the private sector to make economic decisions to establish market values for application in contracts or settlement value, and to address specific concerns or issues related to trade agreements and disputes as well as being used by educational institutions, specifically, agricultural colleges and universities. Government agencies such as the Foreign Agricultural Service, Economic Research Service and the National Agricultural Statistics Service use market news data in the performance of their missions. Also, the poultry and egg industry uses the data to help determine future production and marketing projections. The absence of these data would deny primary and secondary users information that otherwise would be available to aid them in their production and marketing decisions, analyses, research and knowledge of current market conditions. The omission of these data could adversely affect prices, supply, and demand.

Description of Respondents: Business or other for-profit; Farms.

Number of Respondents: 1,743.

Frequency of Responses: Reporting: Weekly; Monthly.

Total Burden Hours: 17,999.

Agricultural Marketing Service

Title: Regulations for Voluntary Grading of Poultry Products and Rabbit Products, 7 CFR Part 70.

OMB Control Number: 0581-0127

Summary of Collection: The Agricultural Marketing Act of 1946 (60 Stat. 1087-1091, as amended; 7 U.S.C. 1621-1627) (AMA) directs and authorizes the Department to develop standards of quality, grades, grading programs, and services to enable a more orderly marketing of agricultural products so trading may be facilitated and so consumers may be able to obtain products graded and identified under USDA programs. Regulations in 7 CFR Part 70 provide for a voluntary program for grading poultry and rabbits on the basis of U.S. classes, standards and grades. The Agricultural Marketing Service (AMS) carries out the regulations, which provide a voluntary program for grading poultry and rabbit products.

Need and Use of the Information: This is a voluntary program on a fee for service basis. Respondents need to request or apply for the specific service they want and in doing so they provide information. The information is needed to administer the program, assess the cost of providing service, and to assure graded poultry and rabbits are properly labeled. Without this information the agency could not ensure properly labeled poultry and rabbit products and the integrity of the USDA grade mark if each new label was not submitted for approval.

Description of Respondents: Business or other for profit; Farms.

Number of Respondents: 372.

Frequency of Responses: Reporting: Daily; Monthly; Semi-annually; Annually; Other: On occasion.

Total Burden Hours: 1,861.

Agricultural Marketing Service

Title: Export Fruit Regulations.

OMB Control Number: 0581-0143.

Summary of Collection: Fresh apples and grapes grown in the United States shipped to any foreign destination must meet minimum quality and other requirements established by regulations issued under the Export Apple Act (7 CFR Part 33) and the Export Grape and Plum Act (7 CFR Part 35). These Acts were designed to promote the foreign trade of the United States in apples and grapes; to protect the reputation of these American-grown commodities; and to prevent deception or misrepresentation of the quality of such products moving in foreign commerce. Plum provisions in the marketing order were terminated in 1991. The regulation issued under the Export Grape and Plum Act (7 CFR Part 35) cover fresh grapes grown in the United States and shipped to foreign destinations, except Canada. Apples and grapes exported to Canada are exempt from the Acts' regulations due to Canada's import requirements.

Need and Use of the Information: Persons who ship fresh apples and grapes grown in the U.S. to foreign destinations must have such shipment inspected and certified by Federal or Federal-State Inspection Service (FSIS) inspectors. Agriculture Marketing Service administers the FSIS. Official FSIS inspection certificates and phytosanitary certificates issued by USDA's Animal and Plant Health Inspection Service provide the needed information for USDA. Export carriers are required to keep on file for three years copies of inspection certificates for apples and grapes.

Description of Respondents: Business or other for-profit; Farms.

Number of Respondents: 100.

Frequency of Responses: Recordkeeping; Reporting; On occasion, Monthly, Annually.

Total Burden Hours: 25.

Agricultural Marketing Service

Title: Customer Service Survey for USDA—Donated Food Products.

OMB Control Number: 0581-0182.

Summary of Collection: Each year the Agricultural Marketing Service (AMS) procures about $700 million dollars of poultry, livestock, fruit, and vegetable products for the school lunch and other domestic feeding programs under authority of 7 CFR 250, Regulations for the Donation of Food for Use in the United States, its Territories and possessions and areas under its jurisdiction. To maintain and improve the quality of these products, AMS has sought to make this process more customer-driven and therefore is seeking opinions from the users of these products. Customers that use USDA-procured commodities to prepare and serve meals retrieve the AMS-11 cards from the boxes and use them to rate their perception of product flavor, texture, and appearance as well as overall satisfaction.

Need and Use of the Information: AMS will use three different versions of the AMS-11, “Customer Opinion Postcard,” AMS-11A for Poultry Programs; AMS-11B for Livestock and Seed Programs and AMS-11C for Fruit and Vegetable Programs to collect information on the product type, production lot, and identify the location and type of facility in which the product was served. USDA program managers will use survey responses to maintain and improve product quality through the revision of USDA commodity specifications and follow-up action with producers of designated production lots.

Description of Respondents: State, Local or Tribal Government; Not-for-profit institutions.

Number of Respondents: 8,400.

Frequency of Responses: Reporting: On occasion.

Total Burden Hours: 700.

Charlene Parker,
Departmental Information Collection Clearance Officer.

[FR Doc. 2010-24931 Filed 10-4-10; 8:45 am]

BILLING CODE 3410-02-P